ENVIRONMENTAL PROTECTION AGENCY

40 CFR Part 52

[EPA-R04-OAR-2007-0228-201015; FRL-9184-3]

Approval and Promulgation of Implementation Plans and Designations of Areas for Air Quality Planning Purposes; Tennessee: Knoxville; Determination of Attainment for the 1997 8-Hour Ozone Standards

AGENCY: Environmental Protection Agency (EPA).

ACTION: Proposed rule.

SUMMARY: On February 19, 2010, the State of Tennessee, through the Tennessee Department of Environment and Conservation (TDEC), submitted a request to EPA to make a determination that the Knoxville, Tennessee nonattainment area has attained the 1997 8-hour ozone national ambient air quality standards (NAAQS) based on quality assured, quality controlled monitoring data from 2007-2009. The Knoxville, Tennessee 1997 8-hour ozone nonattainment area (hereafter referred to as the “Knoxville Area”) is comprised of Anderson, Blount, Jefferson, Knox, Loudon and Sevier Counties in their entireties and a portion of Cocke County (Great Smoky Mountain National Park) in Tennessee. In this action, EPA is proposing to determine that the Knoxville Area has attained the 1997 8-hour ozone NAAQS. This proposed determination is based upon complete, quality assured, quality controlled, and certified ambient air monitoring data for the years 2007-2009 showing that the Knoxville Area has monitored attainment of the 1997 8-hour ozone NAAQS. Preliminary air quality monitoring data available for 2010 are consistent with continued attainment. If this proposed determination is made final, the requirement for the State of Tennessee to submit an attainment demonstration and associated reasonably available control measures (RACM), a reasonable further progress (RFP) plan, contingency measures, and other planning State Implementation Plans (SIPs) related to attainment of the 1997 8-hour ozone NAAQS for the Knoxville, Tennessee 8-hour ozone nonattainment area, shall be suspended for as long as the Knoxville Area continues to meet the 1997 8-hour ozone NAAQS.

DATES: Written comments must be received on or before September 2, 2010.

ADDRESSES: Submit your comments, identified by Docket ID No. EPA-R04-OAR-2007-0228 by one of the following methods:

1. http://www.regulations.gov: Follow the on-line instructions for submitting comments.

2. E-mail: benjamin.lynorae@epa.gov.

3. Fax: (404) 562-9019.

4. Mail: “EPA-R04-OAR-2007-0228,” Regulatory Development Section, Air Planning Branch, Air, Pesticides and Toxics Management Division, U.S. Environmental Protection Agency, Region 4, 61 Forsyth Street, SW., Atlanta, Georgia 30303-8960.

5. Hand Delivery or Courier: Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. EPA-R04-OAR-2007-0228. EPA's policy is that all comments received will be included in the public docket without change and may be made available online at http://www.regulations.gov, including any personal information provided, unless the comment includes information claimed to be Confidential Business Information (CBI) or other information whose disclosure is restricted by statute. Do not submit through http://www.regulations.gov or by e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Twunjala Bradley, Regulatory Development Section, Air Planning Branch, Air, Pesticides and Toxics Management Division, U.S. Environmental Protection Agency, Region 4, 61 Forsyth Street, SW., Atlanta, Georgia 30303-8960. Ms. Bradley may be reached by phone at (404) 562-9352 or via electronic mail at bradley.twunjala@epa.gov.

SUPPLEMENTARY INFORMATION:

I. What action is EPA taking?

II. What is the effect of this action?

III. What is the background for this action?

IV. What is EPA's analysis of the relevant air quality data?

V. Proposed Action

VI. Statutory and Executive Order Reviews

I. What action is EPA taking?

EPA is proposing to determine that the Knoxville Area has attained the 1997 8-hour ozone NAAQS. The Knoxville Area is comprised of Anderson, Blount, Jefferson, Knox, Loudon and Sevier Counties in their entireties and a portion of Cocke County (Great Smoky Mountains National Park) in Tennessee. EPA's determination is based upon complete, quality assured, quality controlled, and certified ambient air monitoring data for the years 2007-2009 showing that the Knoxville Area has monitored attainment of the 1997 8-hour ozone NAAQS. Preliminary air quality monitoring data available for 2010 are consistent with continued attainment. On March 12, 2008, EPA promulgated a revised 8-hour ozone NAAQS (also known as the 2008 8-hour ozone NAAQS). Subsequently, on January 19, 2010, EPA published a proposed rule to reconsider the 2008 8-hour ozone NAAQS, and to promulgate a revised (2010) 8-hour ozone NAAQS. Today's rulemaking does not address requirements for, or future revisions to, the 2008 or proposed 2010 8-hour ozone NAAQS.

II. What is the effect of this action?

If this determination is made final, under the provisions of EPA's ozone implementation rule (see 40 CFR 51.918), the requirements for the State of Tennessee to submit an attainment demonstration and associated RACM, RFP plan, contingency measures,¹ and any other planning SIPs related to attainment of the 1997 8-hour ozone NAAQS for the Knoxville Area, shall be suspended for as long as the Area continues to meet the 1997 8-hour ozone NAAQS.

¹ Contingency measures associated with a maintenance plan (such as if the State opts to redesignate this Area to attainment for the 1997 8-hour ozone NAAQS) would still be required.

On January 16, 2009 (74 FR 2936), EPA published a proposed rulemaking to address, among other issues, the United States Court of Appeals for the District of Columbia Circuit's (DC Circuit) vacatur of the classification system that EPA used to designate a subset of initial 1997 8-hour ozone nonattainment areas under title I, part D, subpart 1 of the Clean Air Act (CAA). In that rulemaking, EPA proposed that all areas designated nonattainment for the 1997 8-hour ozone NAAQS under subpart 1 would be classified as subpart 2 areas (hereafter referred to as the “Subpart 1/Subpart 2 1997 8-Hour Ozone Rulemaking”). The Knoxville Area is among those areas that would be classified if EPA's proposal is finalized. EPA has not yet completed its final rulemaking action for the Subpart 1/Subpart 2 1997 8-Hour Ozone Rulemaking. When the Subpart 1/Subpart 2 1997 8-Hour Ozone Rulemaking is finalized, and if the Knoxville Area continues in attainment for the 1997 8-hour ozone NAAQS, EPA will address in a future rulemaking the consequences of a determination of attainment for any requirements to which the Knoxville Area becomes subject as a result of its reclassification. If after the Knoxville Area is classified under Subpart 2, EPA determines in a future rulemaking that the Knoxville Area continues to be in attainment, then the obligation to submit the pertinent attainment-related requirements for its new classification would be suspended in accordance with 40 CFR 50.918.

As further discussed below, the proposed determination (the subject of this rulemaking) for the Knoxville Area would: (1) Suspend the requirement to submit an attainment demonstration and associated RACM (including reasonably available control technologies), RFP plan, contingency measures, and any other planning SIPs related to attainment of the 1997 8-hour ozone NAAQS; (2) continue until such time, if any, that EPA subsequently determines that the Knoxville Area has violated the 1997 8-hour ozone NAAQS; (3) be separate from, and not influence or otherwise affect, any future designation determination or requirements for the Knoxville Area based on the revised or reconsidered 2008 8-hour ozone NAAQS or the proposed 2010 ozone NAAQS; and (4) remain in effect regardless of whether EPA designates the Knoxville Area as a nonattainment area for purposes of the revised or reconsidered 2008 8-hour ozone NAAQS or proposed 2010 8-hour ozone NAAQS.² Furthermore, as described below, a final clean data determination is not equivalent to the redesignation of the Knoxville Area to attainment for the 1997 8-hour ozone NAAQS.

² As noted above, at this time the proposed determination of attainment, if finalized, would suspend only those requirements related to attainment that are currently applicable to the Knoxville Area.

If this rulemaking is finalized and EPA subsequently determines, after notice-and-comment rulemaking in the Federal Register, that the Knoxville Area has violated the 1997 8-hour ozone NAAQS, the basis for the suspension of the specific requirements, set forth at 40 CFR 51.918, would no longer exist, and the Knoxville Area would thereafter have to address pertinent requirements.

The determination that EPA proposes with this Federal Register notice is not equivalent to a redesignation of the Knoxville Area to attainment. Finalizing this proposed action would not constitute a redesignation of the Area to attainment of the 1997 8-hour ozone NAAQS under section 107(d)(3) of the CAA. Further, finalizing this proposed action does not involve approving maintenance plans for this Area as required under section 175A of the CAA, or would a determination that the Area has met all other requirements for redesignation. The designation status of the Knoxville Area would remain nonattainment for the 1997 8-hour ozone NAAQS until such time as EPA determines that it meets the CAA requirements for redesignation to attainment. The State of Tennessee is currently working on a redesignation request and maintenance plan to change the Knoxville Area's status from nonattainment to attainment for the 1997 8-hour ozone NAAQS. EPA will consider Tennessee's redesignation request and maintenance plan for the Knoxville Area in a rulemaking separate from today's proposed action.

This proposed action, if finalized, is limited to a determination that the Knoxville Area has attained the 1997 8-hour ozone NAAQS. As noted above, the 1997 8-hour ozone NAAQS became effective on July 18, 1997 (62 FR 38894), and are set forth at 40 CFR 50.10. On March 12, 2008, EPA promulgated revised 8-hour ozone NAAQS. Subsequently, on January 19, 2010, EPA published a proposed rule to reconsider the 2008 8-hour ozone NAAQS (75 FR 2938) and to propose a revised 2010 NAAQS. In view of these actions, EPA extended the deadline to make designation determinations for the 2008 8-hour ozone NAAQS. EPA has not yet made any designation determination for the Knoxville Area based on the revised 2008 8-hour ozone or proposed 2010 ozone NAAQS. Today's proposed determination for the Knoxville Area, and any final determination, will have no effect on, and is not related to, any future designation determination that EPA may make based on the revised or reconsidered 2008 or proposed 2010 8-hour ozone NAAQS for the Knoxville Area. Conversely, any future designation determination for the Knoxville Area, based on the revised or reconsidered 2008 or 2010 proposed 8-hour ozone NAAQS, will not have any effect on the determination proposed by this notice.

If this proposed determination is made final and the Knoxville Area continues to demonstrate attainment with the 1997 8-hour ozone NAAQS, the obligation for the State of Tennessee to submit for the Knoxville Area an attainment demonstration and associated RACM, RFP plan, contingency measures, and any other planning SIPs related to attainment of the 1997 8-hour ozone NAAQS will remain suspended regardless of whether EPA designates the Knoxville Area as a nonattainment area for purposes of the revised or reconsidered 2008 or proposed 2010 8-hour ozone NAAQS. Once the Knoxville Area is designated for the revised or reconsidered 2008 or proposed 2010 NAAQS, it will have to meet all applicable requirements for that designation.

III. What is the background for this action?

On July 18, 1997 (62 FR 38894), EPA promulgated a revised 8-hour ozone standard of 0.08 parts per million (ppm) for both the primary and secondary standards. These standards are more stringent than the previous 1-hour ozone standards. Under EPA regulations at 40 CFR part 50, the 8-hour ozone NAAQS is attained when the 3-year average of the annual fourth-highest daily maximum 8-hour average ambient air quality ozone concentrations is less than or equal to 0.08 ppm (i.e., 0.084 ppm when rounding is considered). Ambient air quality monitoring data for the 3-year period must meet a data completeness requirement. The ambient air quality monitoring data completeness requirement is met when the average percent of days with valid ambient monitoring data is greater than 90 percent, and no single year has less than 75 percent data completeness as determined in Appendix I of part 50. Specifically, section 2.3 of 40 CFR part 50, Appendix I, “Comparisons with the Primary and Secondary Ozone Standards” states:

“The primary and secondary ozone ambient air quality standards are met at an ambient air quality monitoring site when the 3-year average of the annual fourth-highest daily maximum 8-hour average ozone concentration is less than or equal to 0.08 ppm. The number of significant figures in the level of the standard dictates the rounding convention for comparing the computed 3-year average annual fourth-highest daily maximum 8-hour average ozone concentration with the level of the standard. The third decimal place of the computed value is rounded, with values equal to or greater than 5 rounding up. Thus, a computed 3-year average ozone concentration of 0.085 ppm is the smallest value that is greater than 0.08 ppm.”

On April 30, 2004 (69 FR 23857), EPA published its air quality designations and classifications for the 1997 8-hour ozone NAAQS based upon air quality monitoring data from those monitors for calendar years 2001-2003 (84 FR 23858). These designations became effective on June 15, 2004. The Knoxville Area is comprised of a portion of Cocke County (Great Smoky Mountains National Park), and the entire counties of Anderson, Blount, Jefferson, Knox, Loudon and Sevier; and was designated nonattainment for the 1997 8-hour ozone NAAQS (see 40 CFR part 81).

On February 19, 2010, the State of Tennessee, through TDEC, submitted a request to EPA to make a determination that the Knoxville Area has attained the 1997 8-hour ozone NAAQS based on complete, quality assured, quality controlled monitoring data from 2007 through 2009.

IV. What is EPA's analysis of the relevant air quality data?

EPA has reviewed the three most recent years of complete, certified, quality assured and quality controlled ambient air monitoring data for the 1997 8-hour ozone NAAQS, consistent with the requirements contained in 40 CFR part 50, as recorded in the EPA Air Quality System (AQS) database for the Knoxville Area. Based on that review, EPA has concluded that the Knoxville Area attained the 1997 8-hour ozone NAAQS during the 2007-2009 monitoring period. Under EPA regulations at 40 CFR 50.10, the 1997 8-hour primary and secondary ozone ambient air quality standards are met at an ambient air quality monitoring site when the three-year average of the annual fourth-highest daily maximum 8-hour average concentration is less than or equal to 0.08 ppm, as determined in accordance with appendix I of 40 CFR part 50.

Table 1 shows the design values (the metrics calculated in accordance with 40 CFR part 50, appendix I, for determining compliance with the NAAQS) for the 1997 8-hour ozone NAAQS for the Knoxville Area monitors for the years 2007-2009.

Table 1—Design Values for Counties in the Knoxville, Tennessee Nonattainment Area for the 1997 8-hour Ozone NAAQS
Location | AQS site ID | 2007 (ppm) | 2008 (ppm) | 2009 (ppm) | 2007-2009 design value (ppm)
Anderson County | Freels Bend Study Area (470010101-1) | 0.080 | 0.073 | 0.065 | 0.072
Blount County | Look Rock, GSMNP (470090101-1) | 0.088 | 0.082 | 0.069 | 0.079
| Cades Cove, GSMNP (470090102-1) | 0.074 | 0.071 | 0.062 | 0.069
Jefferson County | 1188 Lost Creek Road (470890002-1) | 0.085 | 0.075 | 0.068 | 0.076
Knox County | 9315 Rutledge Pike (470930021-1)) | 0.087 | 0.079 | 0.066 | 0.077
| 4625 Mildred Drive (470931020-1) | 0.092 | 0.086 | 0.068 | 0.082
Loudon County | 130 Webb Drive (471050109-1) | 0.088 | 0.077 | 0.067 | 0.077
Sevier County | Cove Mountain, GSMNP (471550101-1) | 0.088 | 0.079 | 0.070 | 0.079

EPA's review of these data indicates that the Knoxville Area has met and continues to meet the 1997 8-hour ozone NAAQS. Preliminary air quality monitoring data available for 2010 also continue to demonstrate attainment. EPA is soliciting public comments on the issues discussed in this document. These comments will be considered before taking final action.

V. Proposed Action

EPA is proposing to determine that the Knoxville, Tennessee, 1997 8-hour nonattainment area has attained the 1997 8-hour ozone NAAQS based on 2007-2009 complete, quality-assured, quality-controlled and certified monitoring data. As provided in 40 CFR 51.918, if EPA finalizes this determination, it would suspend the requirements for the State of Tennessee to submit, for the Knoxville Area, an attainment demonstration and associated RACM, RFP plan, contingency measures, and any other planning SIPs related to attainment of the 1997 8-hour ozone NAAQS as long as the Area continues to attain the 1997 8-hour ozone NAAQS.

VI. Statutory and Executive Order Reviews

Under the CAA, the Administrator is required to approve a SIP submission or state request that complies with the provisions of the Act and applicable Federal regulations. 42 U.S.C. 7410(k); 40 CFR 52.02(a). Thus, in reviewing SIP submissions or state request, EPA's role is to approve state choices, provided that they meet the criteria of the CAA. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this action does not have tribal implications as specified by Executive Order 13175 (65 FR 67249, November 9, 2000), because the impacted area is not in Indian country located in the state, and EPA notes that it will not impose substantial direct costs on tribal governments or preempt tribal law.

List of Subjects in 40 CFR Part 52

Environmental protection, Air pollution control, Ozone, Volatile organic compounds.

Dated: July 23, 2010.
Beverly H. Banister,
Acting Regional Administrator, Region 4.

[FR Doc. 2010-19052 Filed 8-2-10; 8:45 am]

BILLING CODE 6560-50-P